SOCIAL SECURITY ADMINISTRATION

[Docket No: SSA-2025-0157]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0157] in your submitted response.

I. The information collections below are pending at SSA. SSA will submit them to OMB within 60 days from the date of this notice. To be sure we consider your comments, we must receive them no later than October 28, 2025. Individuals can obtain copies of the collection instrument by writing to the above email address.

1. Statement Regarding Marriage—20 CFR 404.726—0960-0017. Section 216(h)(1)(A) of the Social Security Act (Act) directs SSA to apply State law to determine an individual's marital relationship. Some state laws recognize marriages without a ceremony (i.e., common-law marriages). In such cases, SSA provides the same spouse or widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent; cohabitation; and holding out to the public as married, which are the basic tenets of a common-law marriage. SSA uses the information to determine if a valid marital relationship exists, and if the common-law spouse is entitled to Social Security spouse, or widow(er) benefits. The respondents are blood relatives of the worker or claimant for spouse's or widow(er)'s benefits, or other third parties who can confirm or deny an alleged common-law marriage.

Note: SSA is making minor language changes to the SSA-753 for clarity and consistency with other agency forms and updating the Privacy Act and Paperwork Reduction Act Statements to comply with current legal requirements.

Type of Request: Revision of an OMB-approved information collection.

Modality of completion | Number of respondents | Frequency of response | Average burden per response (minutes) | Estimated total annual burden (hours) | Average theoretical hourly cost amount (dollars) * | Total annual opportunity cost (dollars) **
SSA-753 Statement Regarding Marriage (Paper via mail) | 179,804 | 1 | 19 | 56,938 | * $32.66 | *** $1,859,595
SSA-753 Statement Regarding Marriage (Upload Documents) | 165 | 1 | 19 | 52 | * 32.66 | ** 1,698
Totals | 179,969 | 1 | 19 | 56,990 |  | ** 1,861,293
* We based this figure on average U.S. citizen's hourly salary, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.
** This figure does not represent actual costs that SSA is imposing on recipients of Social Security payments to complete this application; rather, these are theoretical opportunity costs for the additional time respondents will spend to complete the application. There is no actual charge to respondents to complete the application.

2. Report to United States Social Security Administration by Person Receiving Benefits for a Child or for an Adult Unable to Handle Funds/Report to the United States Social Security Administration—0960-0049. Section 203(c) of the Act requires the Commissioner of SSA to make benefit deductions and provides for the Commissioner to impose penalty deductions on benefits of individuals who fail to make timely reports of events, which are cause for deductions. SSA uses Forms SSA-7161-OCR-SM and SSA-7162-OCR-SM to: (1) determine continuing entitlement to Social Security benefits; (2) correct benefit amounts for beneficiaries outside the United States (U.S.); and (3) monitor the performance of representative payees outside the U.S. We collect this mandatory information via mail as an annual (or every other year, depending on the country of residence) review for fraud prevention. In addition, the results can affect benefits by increasing or decreasing payment amount or by causing SSA to suspend or terminate benefits. The respondents are individuals living outside the United States who are receiving benefits on their own (or on behalf of someone else) under Title II of the Act.

Note: SSA is making minor instructional changes to these forms in accordance with Public Law 115-165 which exempts certain representative payees from the annual accounting requirement. We are also updating the Privacy Act Statement on these forms to comply with current legal requirements.

Type of Request: Revision of an OMB-approved information collection.

Modality of completion | Number of respondents | Frequency of response | Average burden per response (minutes) | Estimated total annual burden (hours) | Average theoretical hourly cost amount (dollars) * | Total annual opportunity cost (dollars) **
SSA-7161-OCR-SM | 6,077 | 1 | 15 | 1,519 | * $32.66 | ** $49,611
SSA-7162-OCR-SM | 352,956 | 1 | 5 | 29,413 | * 32.66 | ** 960,629
Totals | 359,033 |  |  | 30,932 |  | ** 1,010,240
* We based this figure on average U.S. worker's hourly wages as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

3. Certificate of Coverage Request—20 CFR 404.1913—0960-0554. The U.S, has agreements with 30 foreign countries to eliminate double Social Security coverage and taxation where, except for the provisions of the agreement, a worker would be subject to coverage and taxes in both countries. Each Agreement contains rules: (1) for determining which country's laws cover the period of work, and to which system the worker pays taxes; and (2) that assign a worker's coverage to the country where the worker has the greater economic attachment. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with thirteen of the countries (Denmark, Iceland, Netherlands, Norway, Sweden, Germany, Italy, Spain, Uraguay, Belgium, Poland, France, and Japan) require us to ask a few more questions in those countries. Respondents are workers and employers wishing to establish exemption from foreign Social Security taxes.

Note: SSA is updating the Privacy Act and Paperwork Reduction Act Statements on these forms to comply with current legal requirements.

Type of Request: Revision of an OMB-approved information collection.

Modality of completion | Number of respondents | Frequency of response | Average burden per response (minutes) | Estimated total annual burden (hours) | Average theoretical hourly cost amount (dollars) * | Total annual opportunity cost (dollars) **
Requests via Letter—Individuals (minus Denmark, Iceland, Netherlands, Norway, Sweden, Germany, Italy, Spain, Uruguay, France, Japan, Belgium, and Poland) | 43 | 1 | 40 | 29 | * $32.66 | ** $947
Requests via Internet—Individuals (minus Denmark, Iceland, Netherlands, Norway, Sweden, Germany, Italy, Spain, Uruguay, France, Japan, Belgium, and Poland) | 995 | 1 | 40 | 663 | * 32.66 | ** 21,654
Requests via Letter—Individuals in Denmark, Iceland, Netherlands, Norway, and Sweden | 1+ | 1 | 1 | 0 | * 32.66 | ** 0
Requests via Internet—Individuals in Denmark, Iceland, Netherlands, Norway, and Sweden | 122 | 1 | 41 | 83 | * 32.66 | ** 2,711
Requests via Letter—Individuals in Germany, Italy, Spain, Uruguay | 12 | 1 | 44 | 9 | * 32.66 | ** 294
Requests via Internet—Individuals in Germany, Italy, Spain, Uruguay | 1,013 | 1 | 41 | 692 | * 32.66 | ** 22,601
Requests via Letter—Individuals in France and Japan | 10 | 1 | 44 | 7 | * 32.66 | ** 229
Requests via Internet—Individuals in France and Japan | 1,023 | 1 | 40 | 682 | * 32.66 | ** 22,274
Requests via Letter—Individuals in Belgium | 0 | 1 | 41 | 0 | * 32.66 | ** 0
Requests via Internet—Individuals in Belgium | 51 | 1 | 41 | 35 | * 32.66 | ** 1,143
Requests via Letter—Individuals in Poland | 2 | 1 | 41 | 1 | * 32.66 | ** 33
Requests via Internet—Individuals in Poland | 52 | 1 | 41 | 36 | * 32.66 | ** 1,161
Requests via Letter—Employer (minus Denmark, Iceland, Netherlands, Norway, Sweden, Germany, Italy, Spain, Uruguay, France, Japan, Belgium, and Poland) | 76 | 1 | 40 | 51 | * 32.66 | ** 1,666
Requests via Internet—Employer (minus Denmark, Iceland, Netherlands, Norway, Sweden, Germany, Italy, Spain, Uruguay, France, Japan, Belgium, and Poland) | 7,664 | 1 | 40 | 5109 | * 32.66 | ** 166,860
Requests via Letter—Employer in Denmark, Iceland, Netherlands, Norway, and Sweden | 4 | 1 | 44 | 3 | * 32.66 | ** 98
Requests via Internet—Employer in Denmark, Iceland, Netherlands, Norway, and Sweden | 1,347 | 1 | 44 | 988 | * 32.66 | ** 32,268
Requests via Letter—Employer in Germany, Italy, Spain, Uruguay | 22 | 1 | 41 | 15 | * 32.66 | ** 490
Requests via Internet—Employer in Germany, Italy, Spain, Uruguay | 3,601 | 1 | 41 | 2461 | * 32.66 | ** 80,376
Requests via Letter—Employer in France and Japan | 12 | 1 | 41 | 8 | * 32.66 | ** 261
Requests via Internet—Employer in France and Japan | 4,073 | 1 | 41 | 2783 | * 32.66 | ** 90,893
Requests via Letter—Employer in Belgium | 1 | 1 | 44 | 1 | * 32.66 | ** 33
Requests via Internet—Employer in Belgium | 434 | 1 | 41 | 297 | * 32.66 | * *9,700
Requests via Letter—Employer in Poland | 1 | 1 | 41 | 1 | * 32.66 | ** 33
Requests via Internet—Employer in Poland | 210 | 1 | 41 | 144 | * 32.66 | ** 4,703
Totals | 20,123 |  |  | 13,656 |  | ** 460,425
+ We are including a one-hour placeholder burden for the information collection for which we currently have no responses (mostly the mailed/faxed letters, as we do not receive these often, since we collect almost all responses via our internet-based forms). While respondents may use this modality if the system goes down, in general, they prefer to use the internet submission process.
* We based this figure on average U.S. citizen's hourly salary, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

4. Disability Report—Child—20 CFR 416.912—0960-0577—Sections 223(d)(5)(A) and 1631(e)(1) of the Social Security Act require Supplemental Security Income (SSI) claimants to furnish medical and other evidence to prove they are disabled. SSA uses Form SSA-3820-BK to collect information regarding a child applying for SSI disability payments. The information we collect on the SSA-3820-BK then provides the State Disability Determination Services (DDS) adjudicators a detailed explanation of a child's medical history that is essential to the disability determination. SSA uses Form SSA-3820-BK to collect contact and biographic information about a child. It also includes details pertaining to the child's condition including medical treating sources, medications being taken, medical tests, educational background, and work history if relevant. The State (DDS) evaluators use the information from Form SSA-3820-BK, including its electronic versions, to request and develop medical and school evidence, and to assess the alleged disability. The information collected on the form, together with medical evidence and other sources of non-medical evidence, provides the evidentiary basis upon which SSA makes its initial disability evaluation. The respondents are the responsible adult(s) applying on behalf of the child, such as the parents, guardians, and other caretakers who petition SSI childhood disability for initial and reconsideration decisions.

Note: SSA is updating the Privacy Act and Paperwork Reduction Act Statements on these forms to comply with current legal requirements.

Type of Request: Revision of an OMB-approved information collection.

Modality of completion | Number of respondents | Frequency of response | Average burden per response (minutes) | Estimated total annual burden (hours) | Average theoretical hourly cost amount (dollars) * | Average wait time in field office or teleservice center (minutes) ** | Total annual opportunity cost (dollars) **
SSA-3820 Paper Version | 771 | 1 | 90 | 1,157 | $13.30 | ** 23 | *** $19,325
EDCS Intranet Version | 255,984 | 1 | 120 | 511,968 | 13.30 | ** 102 | *** 12,596,975
i3820 Internet Version | 96,481 | 1 | 120 | 192,962 | 13.30 |  | *** 2,566,395
Totals | 353,236 |  |  | 706,087 |  |  | *** 15,182,695
* We based this figure on the average DI payments based on SSA's current FY 2025 data (https://www.ssa.gov/legislation/2024FactSheet.pdf).
** We based this figure on the average FY 2025 wait times for field offices (23 minutes) and for teleservice centers (180 minutes), based on SSA's current management information data. This figure reflects the data posted on our public facing website (800 number performance | SSA) on the date we drafted this notice. As the figures fluctuate daily, the wait times may be different on the publication date of this notice.
*** This figure does not represent actual costs that SSA is imposing on recipients of Social Security payments to complete this application; rather, these are theoretical opportunity costs for the additional time respondents will spend to complete the application. There is no actual charge to respondents to complete the application.

5. Incorporation by Reference of Oral Findings of Fact and Rationale in Wholly Favorable Written Decisions (Bench Decision Regulation)—20 CFR 404.953 and 416.1453—0960-0694. If an administrative law judge (ALJ) makes a wholly favorable oral decision, including all the findings and rationale for the decision for a claimant of Title II or Title XVI payments, at an administrative appeals hearing, the ALJ sends a Notice of Decision (Form HA-82), as the records from the oral hearing preclude the need for a written decision. We call this the incorporation-by-reference process. In addition, the regulations for this process state that if the involved parties want a record of the oral decision, they may submit a written request for these records. SSA collects identifying information under the aegis of Sections 20 CFR 404.953 and 416.1453 of the Code of Federal Regulations to determine how to send interested individuals written records of a favorable incorporation-by-reference oral decision made at an administrative review hearing. Since there is no prescribed form to request a written record of the decision, the involved parties send SSA their contact information and reference the hearing for which they would like a record. The respondents are applicants for Disability Insurance Benefits and SSI payments, or their representatives, to whom SSA gave a wholly favorable oral decision under the regulations cited above.

Note: SSA is updating the burden information for the HA-82 (specifically to show a significant decrease in the number of respondents), which decreases the overall time burden for this information collection.

Type of Request: Revision of an OMB-approved information collection.

Modality of completion | Number of respondents | Frequency of response | Average burden per response (minutes) | Estimated total annual burden (hours) | Average theoretical hourly cost amount (dollars) * | Total annual opportunity cost (dollars) **
HA-82 | 622 | 1 | 5 | 52 | * $13.30 | ** $692
* We based this figure on the average DI payments based on SSA's current FY 2025 data (https://www.ssa.gov/legislation/2024FactSheet.pdf).
** This figure does not represent actual costs that SSA is imposing on recipients of Social Security payments to complete this application; rather, these are theoretical opportunity costs for the additional time respondents will spend to complete the application. There is no actual charge to respondents to complete the application.

6. Advance Designation of Representative Payee—0960-0814. On April 13, 2018, the President signed into law The Strengthening Protections for Social Security Beneficiaries Act of 2018, also known as Public Law (Pub. L.) 115-165. Section 201 of the law allows SSA beneficiaries and applicants under Title II, Title VIII and Title XVI, of the Social Security Act to designate individuals to serve as a representative payee should the need arise in the future. Section 201(j)(2) of Public Law 115-165 provides the requirements for selecting a qualified representative payee. SSA only offers the option to advance designate to capable adults and emancipated minors. Beneficiaries who have an assigned representative payee, or have a representative application in process, cannot advance designate. SSA uses Form SSA-4547, Advance Designation of Representative Payee, or the electronic modalities for this form [the internet i4547 (available through both iClaim and an individual's mySocial Security account), and Intranet SSI Claim System, Modernized Claim System (MCS), and iMain System screens] to allow beneficiaries or applicants the option to designate individuals in order of priority, to serve as a representative. Beneficiaries or applicants can update or change the advance designee order of priority at any time. SSA uses the information on Form SSA-4547 or its equivalent modalities to select a qualified representative payee in order of priority. If the selected representative payee is unable or unwilling to serve, or does not meet SSA requirements, SSA selects another representative payee to serve in the beneficiaries and applicant's best interest. SSA notifies beneficiaries annually of the individuals they chose in advance to be their representative payee. The respondents are SSA beneficiaries and claimants who want to designate individuals to serve as a representative payee should the need arise in the future.

Note: SSA is removing the Advance Designation of Representative Payee receipts which means we will no longer send receipts to all customers. This change will decrease the overall cost of this information collection. Respondents will still be able to access their Advance Designation information from their mySocial Security accounts.

Type of Request: Revision of an OMB-approved information collection.

Modality of completion | Number of respondents | Frequency of response | Average burden per response (minutes) | Estimated total annual burden (hours) | Average theoretical hourly cost amount (dollars) * | Average wait time for a field office or teleservice center (minutes) ** | Total annual opportunity cost (dollars) ***
Submission of Advance Designation
Intranet version (Paper Form SSA-4547, SSI Claims System, MCS, iMain) | + 693,339 | 1 | 6 | 69,334 | * $22.98 | ** 102 | *** $28,679,270
Internet version (mySocial Security) | 304,471 | 1 | 6 | 30,447 | * 22.98 |  | *** 699,672
Internet version (iClaim) | 898,233 | 1 | 6 | 89,823 | * 22.98 |  | *** 2,064,133
Totals | 1,896,043 |  |  | 189,604 |  |  | *** 31,443,075
Waiver of Advance Designation
Intranet version (Paper Form SSA-4547, SSI Claims System, MCS, iMain) | 1,507,403 | 1 | 2 | 50,247 | * 22.98 | ** 102 | **** 8,082,709
Internet version (mySSA) | 1,442 | 1 | 2 | 48 | * 22.98 |  | **** 1,103
Internet version (iClaim) | 1,498,363 | 1 | 2 | 49,945 | * 22.98 |  | **** 1,147,736
Totals | 3,007,208 |  |  | 100,240 |  |  | **** 9,231,548
Grand Totals
Totals | 4,903,251 |  |  | 289,844 |  |  | *** 40,674,623
+ SSA enters advance designation information we receive on the paper Form SSA-4547 in the advanced designation representative payee system using one of the Intranet applications. Accordingly, we have included the paper form responses in this figure for Intranet responses.
** We based this figure by averaging both the average DI payments based on SSA's current FY 2025 data (https://www.ssa.gov/legislation/2024FactSheet.pdf), and the average U.S. worker's hourly wages, as reported by Bureau of Labor Statistics data (Occupational Employment and Wage Statistics).
*** We based this figure on the average FY 2025 wait times for field offices (23 minutes) and for teleservice centers (180 minutes), based on SSA's current management information data. This figure reflects the data posted on our public facing website (800 number performance | SSA) on the date we drafted this notice. As the figures fluctuate daily, the wait times may be different on the publication date of this notice.
**** This figure does not represent actual costs that SSA is imposing on recipients of Social Security payments to complete this application; rather, these are theoretical opportunity costs for the additional time respondents will spend to complete the application. There is no actual charge to respondents to complete the application.

7. Electronic Consent Based Social Security Number Verification—20 CFR 400.100—0960-0817. The electronic Consent Based Social Security Number Verification (eCBSV) is a fee-based Social Security Number (SSN) verification service that allows permitted entities (a financial institution as defined by Section 509 of the Gramm-Leach-Bliley Act. 42 U.S.C. 405b(b)(4), Public Law 115-174, Title II, 215(b)(4), or service provider, subsidiary, affiliate, agent, subcontractor, or assignee of a financial institution), to verify that an individual's name, date of birth (DOB), and SSN match our records based on the SSN holder's signed—including electronic—consent in connection with a credit transaction or any circumstance described in section 604 of the Fair Credit Reporting Act (15 U.S.C. 1681b).

Background

We created this service due to section 215 of the Economic Growth, Regulatory Relief, and Consumer Protection Act of 2018 (Banking Bill), Public Law 115-174. Permitted entities are able to submit an SSN, name, and DOB of the number holder in connection with a credit transaction or any circumstances described in Section 604 of the Fair Credit Reporting Act to SSA for verification via an application programming interface. The purpose of the information collection is for SSA to verify for the permitted entity (PE) that the submitted SSN, name and DOB matches, or does not match, the data contained in our records. After obtaining number holders' consents, a PE submits the names, DOBs, and SSNs of number holders to the eCBSV service. SSA matches the information against our Master File, using SSN, name, and DOB. The eCBSV service responds in real time with an indication as to whether there is a match with a “yes” or “no” response, along with details specifying which data element(s) do not align with SSA records. Additionally, if applicable, the SSN verification result indicates the status of the individual's death based on data in SSA's records. The verification does not authenticate the identity of the number holders or conclusively prove the number holders we verify are who they claim to be. Respondents can find up-to-date information on the service, eligibility, fees, enrollment, technical specifications, and guides to written consent on the eCBSV website.

Consent Requirements

Under the eCBSV process, the PE does not submit the number holder's consent forms to SSA. SSA requires each PE to retain a valid consent for each SSN verification request submitted for a period of 5 years. The agency permits the PE to retain the consent in an electronic format.

SSA requires a wet or electronic signature on the consent. A PE may request verification of a number holder's SSN on behalf of a financial institution pursuant to the terms of the Banking Bill, the user agreement between SSA and the PE, and the SSN Holder's consent. In this case, the PE ensures that the financial institution agrees to the terms in the user agreement, which require the PE use the SSN verification only for the purpose stated in the consent, and to mark their own records as “verified” or “unverified,” and prohibits entities from further using or disclosing the SSN verification. This relationship is subject to the terms in the user agreement between SSA and the PE.

Compliance Review

SSA requires each PE to undergo compliance reviews. An SSA approved certified public accountant (CPA) conducts the compliance reviews. SSA designed the compliance reviews to ensure that the permitted entities meet all terms and conditions of the user agreement, including that the permitted entities obtain valid consent from number holders. The PE pays all compliance review costs through the eCBSV fees. In general, every permitted entity is subject to an initial audit then once within five (5) years based on compliance. The CPA follows review standards established by the American Institute of Certified Public Accountants and contained in the Generally Accepted Government Auditing Standards (GAGAS).

eCBSV is available to all interested permitted entities, as defined in section 215 of the Banking Bill with an estimated annual 58,000,000 requests. The respondents to the eCBSV information collection are the permitted entities; members of the public who consent to SSN verifications; and CPAs who provide compliance review services.

Note: Per OMB's Terms of Clearance, SSA is allowing for public comment on several minor changes to the User Agreement which OMB approved via Change Request. These minor changes enhance the match/no match data we provide to include which elements do not align with our records; minor language changes to update language which discusses the match/no match data process; revisions to the agreement period and tier levels to allow for greater flexibility in costs and utilization; and to update language for clarity purposes.

Type of Request: Revision of an OMB-approved information collection.

Time Burden
Requirement | Number of respondents | Frequency of response | Average burden per response (minutes) | Estimated total annual burden (hours) | Average theoretical hourly cost amount (dollars) * | Total annual opportunity cost (dollars) **
(a) People whose SSNs SSA will verify—Reading and Signing | 58,000,000 | 1 | 3 | 2,900,000 | *$13.30 | **$38,570,000
(a) Sending in the verification request, calling our system, getting a response | 58,000,000 | 1 | 1 | 966,667 | *45.04 | **43,538,682
(c) CPA Compliance Review and Report*** | 21 | 1 | 4,800 | 1,680 | *44.96 | **75,533
Totals | 116,000,021 |  |  | 3,868,347 |  | **82,184,215
* We based these figures on average Business and Financial operations occupations, and Accountants and Auditors hourly salaries, as reported by Bureau of Labor Statistics data ((Occupational Employment and Wage Statistics) and average DI payments, as reported in SSA's disability insurance payment data (https://mwww.ba.ssa.gov/legislation/2024FactSheet.pdf).
** This figure does not represent actual costs that SSA is imposing on recipients of Social Security payments to complete this application; rather, these are theoretical opportunity costs for the additional time respondents will spend to complete the application. There is no actual charge to respondents to complete the application.
*** The enrollment process occurs automatically through the eCBSV Customer Connection, and entails providing consent for SSA to verify the EIN; electronically signing the eCBSV User Agreement, and the permitted entities certification; selecting their annual tier level; and linking to pay.gov to make payment for services.
**** SSA uses one CPA firm (an SSA-approved contractor) to conduct compliance reviews and prepare written reports of findings on the permitted entities.

Cost Burden

The public cost burden depends on the number of PEs using the service and the annual transaction volume. We based the current tier fee schedule below on 21 participating PEs in fiscal year (FY) 2024 submitting an anticipated annual volume of 58 million transactions. For FY 2025, we are maintaining the current tier structure, based our analysis, which estimated 21 participating PEs with an anticipated annual volume of 68 million. The total cost for developing and operating the service is $66.3 million through FY 2024. Of this amount, $25.5 million remains unrecovered/unreimbursed. The current subscription tier structure and associated fees are intended to recover these costs over a three-year period, assuming projected enrollments and transaction volumes meet these projections. SSA uses the fee to allocate for forecasted systems and operational expenses; agency oversight; and overhead necessary to sustain the service.

eCBSV Tier Fee Schedule
Tier | Annual transaction threshold | Annual fee
1 | Up to 10,000 (1-10,000) | $5,100
2 | Up to 75,000 (10,001-75,000) | 37,125
3 | Up to 200,000 (75,001-200,000) | 98,000
4 | Up to 500,000 (200,001-500,000) | 240,000
5 | Up to 1 million (500,001-1 million) | 470,000
6 | Up to 2.5 million (1,000,001-2.5 million) | 907,500
7 | Up to 5 million (2,500,001-5 million) | 1,765,500
8 | Up to 10 million (5,000,001-10 million) | 3,206,250
9 | Up to 15 million (10,000,001-15 million) | 3,562,500
10 | Up to 20 million (15,000,001-20 million) | 4,453,125
11 | Up to 25 million (20,000,001-25 million) | 5,165,625
12 | Up to 200 million (25,000,001-200 million) | 5,878,125

SSA calculates fees based on forecasted systems and operational expenses, agency oversight, overhead, and Certified Public Accountant audit contract costs.

Section 215(h)(1)(B) of the Banking Bill requires that the Commissioner shall “periodically adjust” the price paid by users to ensure that amounts collected are sufficient to fully offset the costs of administering the eCBSV system. On at least an annual basis, SSA monitors costs incurred to provide eCBSV services and revises the tier fee schedule accordingly. SSA notifies permitted entities of the tier fee schedule in effect at the renewal of eCBSV user agreements, when a permitted entity begins a new 365-day agreement period, and via notice in the Federal Register. Permitted entity renewals are governed by the tier in effect at the time of renewal.

Dated: August 21, 2025.
Mark Steffensen,
General Counsel, Deputy Commissioner for Law and Policy, Social Security Administration.

[FR Doc. 2025-16598 Filed 8-28-25; 8:45 am]

BILLING CODE 4191-02-P